DEPARTMENT OF ENERGY

Federal Energy Regulatory Commission

Combined Notice of Filings

Take notice that the Commission has received the following Natural Gas Pipeline Rate and Refund Report filings:

Filings Instituting Proceedings

Docket Numbers: RP13-172-000.

Applicants: Questar Southern Trails Pipeline Company.

Description: Section 35 Segmentation of Capacity to be effective 12/1/2012.

Filed Date: 10/22/12.

Accession Number: 20121022-5139.

Comments Due: 5 p.m. ET 11/5/12.

Docket Numbers: RP13-173-000.

Applicants: Central New York Oil And Gas, L.L.C.

Description: 10-22 Amended MARC I Non-Conforming FTSAs (Revised Exhibit As) to be effective 12/31/9998.

Filed Date: 10/23/12.

Accession Number: 20121023-5001.

Comments Due: 5 p.m. ET 11/5/12.

Docket Numbers: RP13-174-000.

Applicants: Columbia Gas Transmission, LLC.

Description: Columbia Gas Transmission, LLC Request for Extension of Time to File Semi-Annual Operational Transactions Rate Adjustment Filing.

Filed Date: 10/22/12.

Accession Number: 20121022-5179.

Comments Due: 5 p.m. ET 10/29/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-318-004.

Applicants: Texas Eastern Transmission, LP.

Description: Reservation Charge Credit Compliance Filing to be effective 12/31/9998.

Filed Date: 10/22/12.

Accession Number: 20121022-5162.

Comments Due: 5 p.m. ET 11/5/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 23, 2012.
Nathaniel J. Davis, Sr.,
Deputy Secretary.

[FR Doc. 2012-26525 Filed 10-26-12; 8:45 am]

BILLING CODE 6717-01-P